DEPARTMENT OF VETERANS AFFAIRS

[OMB Control No. 2900-0701]

Agency Information Collection Activities (Bereaved Family Member Satisfaction Survey) Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden and includes the actual data collection instrument.

DATES: Comments must be submitted on or before June 11, 2012.

ADDRESSES: Submit written comments on the collection of information through www.Regulations.gov; or to VA's OMB Desk Officer, OMB Human Resources and Housing Branch, New Executive Office Building, Room 10235, Washington, DC 20503 (202) 395-7316. Please refer to “OMB Control No. 2900-0701” in any correspondence.

FOR FURTHER INFORMATION CONTACT: Denise McLamb, Enterprise Records Service (005R1B), Department of Veterans Affairs, 810 Vermont Avenue NW., Washington, DC 20420, (202) 632-7479, fax (202) 632-7583 or email denise.mclamb@mail.va.gov. Please refer to “OMB Control No. 2900-0701.”

SUPPLEMENTARY INFORMATION: Title: Bereaved Family Member Satisfaction Survey, VA Form 10-21081(NR).

OMB Control Number: 2900-0701.

Type of Review: Extension of a currently approve collection.

Abstract: The data collected on VA Form 10-21081(NR) will be use to survey family members of deceased veterans on their satisfaction with the quality care provided to their love one prior to his or her death at a VA facility.

An agency may not conduct or sponsor, and a person is not required to respond to a collection of information unless it displays a currently valid OMB control number. The Federal Register Notice with a 60-day comment period soliciting comments on this collection of information was published on February 28, 2012 at pages 12109-12110.

Affected Public: Individuals or households.

Estimated Annual Burden: 1,833 hours.

Estimated Average Burden per Respondent: 10 minutes.

Frequency of Response: One-time.

Estimated Number of Respondents: 11,00.

Dated: May 4, 2012.
By direction of the Secretary.
Denise McLamb,
Program Analyst, Enterprise Records Service.

[FR Doc. 2012-11213 Filed 5-9-12; 8:45 am]

BILLING CODE 8320-01-P